DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before March 29, 2004.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW., Room 4102, Albuquerque, New Mexico. Please refer to the respective permit number for each application when submitting comments. All comments received, including names and addresses, will become part of the official administrative record and may be made available to the public.

FOR FURTHER INFORMATION CONTACT: Chief, Endangered Species Division, (505) 248-6922.

SUPPLEMENTARY INFORMATION:

Permit No. TE-081873

Applicant: William Clark, Harlingen, Texas.

Applicant requests a new permit for research and recovery purposes to conduct surveys, trap, and band northern aplomado falcons (Falco femoralis septentrionalis) within Texas.

Permit No. TE-028986

Applicant: Arizona Department of Transportation, Environmental Planning Group, Phoenix, Arizona.

Applicant requests an amendment to an existing permit to allow presence/absence surveys for the following species within Arizona: black-footed ferret (Mustela nigripes), Hualapai Mexican vole (Microtus mexicanus hualpaiensis), jaguar (Panthera onca), lesser long-nosed bat (Leptonycteris curasoae yerbabuenae), Mexican gray wolf (Canis lupus baileyi), ocelot (Leopardus pardalis), Sonoran pronghorn (Antilocapra americana sonoriensis), California condor (Gymnogyps californianus), masked bobwhite (Colinus virginianus ridgwayi), Yuma clapper rail (Rallus longirostris yumanensis), Sonoran tiger salamander (Ambystoma tigrinum stebbinsi), bonytail chub (Gila elegans), desert pupfish (Cyprinodon macularius), humpback chub (Gila cypha), Virgin River chub (Gila robusta semidnuda), woundfin (Plagopterus argentissimus), Yaqui chub (Gila purpurea), and Kanab ambersnail (Oxyloma haydeni kanabensis). In addition, the applicant requests authorization to survey for and collect the following species within Arizona: Agave arizonica (Arizona agave), Amsonia kearneyana (Kearney's blue-star), Astragalus cremnophylax var. cremnophylax (Sentry milk-vetch), Astragalus holmgreniorum (Holmgren milk-vetch), Coryphantha scheeri var. robustispina (Pima pineapple cactus), Echinocactus horizonthalonius var. nicholii (Nichol's Turk's head cactus), Echinocereus triglochidiatus var. arizonicus (Arizona hedgehog cactus), Lilaeopsis schaffneriana var. recurva (Huachuca water-umbel), Pediocactus bradyi (Brady pincushion cactus), Pediocactus peeblesianus var. peeblesianus (Peebles Navajo cactus), Purshia subintegra (Arizona cliff-rose), and Spiranthes delitescens (Canelo Hills ladies'-tresses).

Permit No. TE-082497

Applicant: Resource Stewards, L.L.C., Ardmore, Oklahoma.

Applicant requests a new permit for research and recovery purposes to conduct presence/absence surveys for American burying beetle (Nicrophorus americanus) within Oklahoma.

Permit No. TE-082496

Applicant: U.S. Army, Camp Bullis Military Training Reservation, San Antonio, Texas.

Applicant requests a new permit for research and recovery purposes to conduct presence/absence surveys and nest monitoring for golden-cheeked warbler (Dendroica chrysoparia) and black-capped vireo (Vireo atricapillus) within Texas.

Permit No. TE-082495

Applicant: Paul Fushille, Austin, Texas.

Applicant requests a new permit for research and recovery purposes to conduct presence/absence surveys and nest monitoring for golden-cheeked warbler (Dendroica chrysoparia) and black-capped vireo (Vireo atricapillus) within Texas.

Permit No. TE-081884

Applicant: Andrew Gluesenkamp, Austin, Texas.

Applicant requests a new permit for research and recovery purposes to survey for and collect the following species within Texas: Barton Springs salamander (Eurycea sosorum), Houston toad (Bufo houstonensis), Texas blind salamander (Typhlomolge rathbuni), Batrisodes texanus (Coffin Cave mold beetle), Batrisodes venyivi (Helotes mold beetle), Cicurina baronia (Robber Baron Cave meshweaver), Cicurina madla (Madla's cave meshweaver), Cicurina venii (Braken Bat Cave meshweaver), Cicurina vespera (Government Canyon Bat Cave meshweaver), Heterelmis comalensis (Comal Springs riffle beetle), Neoleptoneta microps (Government Canyon Bat Cave spider), Neoleptoneta myopica (Tooth Cave spider), Rhadine exilis (ground beetle, no common name), Rhadine infernalis (ground beetle, no common name), Rhadine persephone (Tooth Cave ground beetle), Stygobromus pecki (Peck's cave amphipod), Stygoparnus comalensis (Comal Springs dryopid beetle), Tartarocreagris texana (Tooth Cave pseudoscorpion), Texamaurops reddelli (Kretschmarr Cave mold beetle), Texella cokendolpheri (Cokendolpher cave harvestman), Texella reddelli (Bee Creek Cave harvestman), and Texella reyesi (Bone Cave harvestman).

Authority: 16 U.S.C. 1531, et seq.

Dated: February 18, 2004.
Bryan Arroyo,
Assistant Regional Director, Ecological Services, Region 2, Albuquerque, New Mexico.

[FR Doc. 04-4352 Filed 2-26-04; 8:45 am]

BILLING CODE 4310-55-P